TENNESSEE VALLEY AUTHORITY

Notice of Sunshine Act Meeting; Meeting No. 10-05

November 4, 2010.

The TVA Board of Directors will hold a public meeting on November 4, 2010, at the TVA Browns Ferry Nuclear Plant Training Center Auditorium, Shaw Road & Nuclear Plant Road, Athens, Alabama 35611, to consider the matters listed below. The public may comment on any agenda item or subject at a public listening session which begins at 9 a.m. CDT. Immediately following the end of the public listening session, the meeting will be called to order to consider the agenda items listed below. Please Note: Speakers must pre-register online at TVA.gov or sign in before the meeting begins at 9 a.m. on the day of the meeting. The Board will answer questions from the news media following the Board meeting.

Status: Open.

Agenda

Old Business

Approval of minutes of August 20, 2010, Board Meeting.

New Business

1. Welcome.

2. President's Report.

3. Chairman's Report.

A. Board Governance matters, including the creation of the TVA Board Nuclear Oversight Committee and Committee membership assignments.

4. Report of the Audit, Risk, and Regulation Committee.

A. Selection of TVA's External Auditor for Fiscal Year 2011.

5. Report of the People and Performance Committee.

A. Compensation and Incentive Pay.

B. Medco Contract Extension.

6. Report of the Finance, Rates, and Portfolio Committee.

A. Section 13 Tax Equivalent Payments for Fiscal Year 2011.

B. Corporate insurance contract with Marsh.

C. Browns Ferry Nuclear Plant Cooling Capacity Project.

7. Report of the Customer and External Relations Committee.

A. Revised Policy on Renewable Energy Standards.

B. Transfer of the Monticello-East Kentucky 69-KV transmission line and associated easements.

C. Adoption of Board Practice: Delegation for Land Transactions.

D. Douglas Nolichucky Land Plan.

E. Regional Resource Stewardship Council member approval.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: October 28, 2010.
Ralph E. Rodgers,
Acting General Counsel and Secretary.

[FR Doc. 2010-27718 Filed 10-29-10; 11:15 am]

BILLING CODE 8120-08-P